DEPARTMENT OF LABOR

Employment and Training Administration

[TA-W-72,865]

Valenite, LLC, a Wholly Owned Subsidiary of Sandvik, Inc., Services and the Creative Group, Including On-Site Leased Workers From Snelling Staffing, Madison Heights, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 23, 2010, applicable to workers of Valenite, LLC, a wholly owned subsidiary of Sandvik, Inc., Services and the Creative Group, including on-site leased workers from Snelling Staffing, Madison Heights, Michigan. The notice will soon be published in the Federal Register.

At the request of the State, the Department reviewed the certification for workers of the subject firm. The workers are engaged in activities related to the production of tools, inserts and coolant.

New information shows that Valenite, LLC is a wholly owned subsidiary of Sandvik, Inc. Some workers separated from employment at the subject firm had their wages reported under a separated unemployment insurance (UI) tax account under the name Sandvik, Inc.

Accordingly, the Department is amending this certification to properly reflect this matter.

The intent of the Department's certification is to include all workers of the subject firm who were adversely affected by an increase in imports of tools, inserts and coolant.

The amended notice applicable to TA-W-72,865 is hereby issued as follows:

All workers of Valenite, Inc., a wholly owned subsidiary of Sandvik, Inc., Services and The Creative Group, including on-site leased workers from Snelling Staffing, Madison Heights, Michigan, who became totally or partially separated from employment on or after November 16, 2008 through April 23, 2012, and all workers in the group threatened with total or partial separation from employment on the date of certification through two years from the date of certification, are eligible to apply for adjustment assistance under Chapter 2 of Title II of the Trade Act of 1974, as amended.

Signed at Washington, DC, this 3rd day of June, 2010.
Michael W. Jaffe,
Certifying Officer, Division of Trade Adjustment Assistance.

[FR Doc. 2010-14463 Filed 6-15-10; 8:45 am]

BILLING CODE 4510-FN-P